DEPARTMENT OF COMMERCE

National Oceanic and Atmospheric Administration

[I.D. 020402D]

New England Fishery Management Council; Public Meetings

AGENCY: National Marine Fisheries Service (NMFS), National Oceanic and Atmospheric Administration (NOAA),Commerce.

ACTION: Notice of public meetings.

SUMMARY: The New England Fishery Management Council (Council) is scheduling a public meeting of its Groundfish Oversight Committee and Scallop Oversight Committee in February, 2002 to consider actions affecting New England fisheries in the exclusive economic zone (EEZ). Recommendations from these groups will be brought to the full Council for formal consideration and action, if appropriate.

DATES: The meetings will be held on Friday,February 22 and Monday, February 25, 2002. See SUPPLEMENTARY INFORMATION for specific dates and times.

ADDRESSES: The meetings will be held in Mansfield and Danvers, MA. See SUPPLEMENTARY INFORMATION for specific locations.

Council address: New England Fishery Management Council, 50 Water Street, Mill 2, Newburyport, MA 01950.

FOR FURTHER INFORMATION CONTACT: Paul J. Howard, Executive Director, New England Fishery Management Council; (978)465-0492.

SUPPLEMENTARY INFORMATION:

Meeting Dates and Agendas

Friday,February 22, 2002, 9:30 a.m.--Groundfish Oversight Committee Meeting.

Location: Holiday Inn, 31 Hampshire Street, Mansfield, MA 02048; telephone: (508)339-2200.

The Groundfish Oversight Committee will meet to discuss Amendment 10 to the Scallop Fishery Management Plan (FMP) and Amendment 13 to the Northeast Multispecies FMP. The Committee will first discuss Amendment 10 to the Scallop FMP. The committee will evaluate habitat and bycatch technical advice from the joint meeting of the Habitat Technical Team, the Groundfish Plan Development Team (PDT), and the Scallop PDT. Recommendations will be developed for draft alternatives in Scallop FMP Amendment 10 to minimize, to the extent practicable, bycatch and habitat impacts from scallop fishing.

The Committee will then discuss Amendment 13 to the Northeast Multispecies FMP. Amendment 13 will establish rebuilding programs for overfished groundfish stocks, and will also end overfishing on stocks in that condition. The Committee will review available information on the biological objectives for the FMP, including the mortality and biomass targets for stocks such as Gulf of Maine cod. The Committee will also explore alternatives for crafting management recommendations for Amendment 13 that will incorporate additional input and advice from New England fishermen. The Committee is considering an approach that would have management measures in geographic areas developed by fishermen that fish in those areas. The details,advantages, and limitations of this approach will be discussed and the Committee will prepare a recommendation for the Council. Finally, the Committee will continue its review and development of specific management alternatives for further analysis.

The Committee's discussion on Amendment 13 may be influenced by a pending court order in the matter of Conservation Law Foundation et al. v. Donald Evans et al. Should a court order be issued prior to the meeting, the Committee's discussions will include an evaluation of the impacts of that order on the development of Amendment 13. This court order may also constrain or expand the Committee's discussions on measures that are to be used for Amendment 13.

Monday, February 25, 2002, 9:30 a.m.-- Scallop Oversight Committee Meeting.

Location: Sheraton Ferncroft, 50 Ferncroft Road, Danvers, MA 01923;telephone: (978) 777-2500.

The Oversight Committee will continue development of management alternatives for Draft Amendment 10 to the Sea Scallop Fishery Management Plan(FMP). The committee will evaluate habitat and bycatch technical advice from the joint meeting of the Habitat Technical Team, the Groundfish Plan Development Team (PDT), and the Scallop PDT. Recommendations will be developed for draft alternatives in Scallop FMP Amendment 10 to minimize, to the extent practicable, bycatch and habitat impacts from scallop fishing. Other issues and measures associated with Amendment 10 may also be developed.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

February 4, 2002.
Richard W. Surdi,
Acting Director, Office of Sustainable Fisheries, National marine Fisheries Service.

[FR Doc. 02-3114 Filed 2-8-02; 8:45 am]

BILLING CODE 3510-22-S